DEPARTMENT OF THE INTERIOR

Fish and Wildlife Service

[FWS-R1-R-2010-N220; 1265-0000-10137-S3]

Ridgefield National Wildlife Refuge, Clark County, WA; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for the Ridgefield National Wildlife Refuge (Refuge). In this final CCP, we describe how we will manage this Refuge for the next 15 years.

ADDRESSES: You may view or obtain copies of the final CCP and FONSI by any of the following methods. You may request a hard copy or CD-ROM.

Agency Web Site: Download the CCP/FONSI at http://www.fws.gov/pacific/planning.

E-mail: FW1PlanningComments@fws.gov. Include “Ridgefield Refuge final CCP” in the subject line of the message.

Mail: Ridgefield National Wildlife Refuge, P.O. Box 457, Ridgefield, WA 98642.

In-Person Viewing or Pickup: Ridgefield National Wildlife Refuge, 28908 NW. Main Avenue, Ridgefield, WA 98642.

FOR FURTHER INFORMATION CONTACT: Bob Flores, Project Leader, (360) 887-4109.

SUPPLEMENTARY INFORMATION:

Introduction

With this notice, we complete the CCP process for the Refuge. The Service started this process through a notice of intent in the Federal Register (71 FR 43787; August 2, 2006). We released the Draft CCP/EA to the public, announcing and requesting comments in a notice of availability in the Federal Register (75 FR 34154; June 16, 2010).

The Refuge is located in Washington along the Columbia River. It was established to secure vital winter habitat for dusky Canada geese and other waterfowl. The Refuge encompasses 5,218 acres of marshes, grasslands, and woodlands on 5 units. We preserve the natural Columbia River floodplain on the Carty, Roth, and Ridgeport Dairy units. We manage the River ‘S’ and Bachelor Island units to provide habitat for waterfowl and other wildlife. Sandhill cranes, shorebirds, and a variety of songbirds stop at the Refuge during spring and fall migrations. Some bird species, such as mallards, great blue herons, and red-tailed hawks, nest and reside on the Refuge year-round.

We announce our decision and the availability of the FONSI for the final CCP in accordance with National Environmental Policy Act (NEPA) (40 CFR 1506.6(b)) requirements. We completed a thorough analysis of impacts on the human environment, which we included in the draft CCP/EA.

The CCP will guide us in managing and administering the Refuge for the next 15 years. Alternative 2, as we described in the draft CCP, is the foundation for the CCP.

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Refuge Administration Act.

CCP Alternatives, Including Selected Alternative

During our CCP planning process we identified several issues. To address the issues, we developed and evaluated the following alternatives in our Draft CCP/EA.

Alternative 1 (No Action)

Under Alternative 1, we would have continued to manage and where feasible restore habitat for dusky Canada geese, other Canada geese subspecies, cackling geese, other waterfowl, and imperiled Federal and State listed species. Hunting would continue on the River `S' Unit's 760-acre hunt area. The current 4.3-mile auto tour route would remain open year round. The Refuge would continue to coordinate with its Friends groups, local educators, and Tribes to conduct environmental and cultural education and interpretation programs.

Alternative 2 (Preferred Alternative)

Under Alternative 2, our preferred alternative, we would continue to protect, maintain, and, where feasible, restore habitat for priority species, including dusky Canada geese, other waterfowl, and imperiled Federal and State listed species. We would maintain high-quality green forage for geese in improved pastures and wet meadows, and increase cropland and wet meadow acreage. Wetlands would be managed to increase productivity and reduce water pumping costs. Invasive species and State- and county-listed noxious weeds would continue to be a primary management concern. Enhancing and restoring bottomland forest and oak woodland habitats would increase. We would complete habitat assessments to guide stream and tidally influenced wetland restorations. We would conduct feasibility studies for reintroducing native species such as Columbian white-tailed deer and western pond turtle, and inventory and monitoring efforts would increase.

Under Alternative 2, current public use areas and closures would continue, the waterfowl hunt area would remain unchanged, and changes in wetland management would improve the hunt program over time. A new access point to the River `S' Unit, including a 2-lane bridge and 1-mile entrance road, would be developed. The current auto tour route would be open year round, and shortened slightly to provide habitat for dusky Canada geese and cranes. A new 1.5-mile dike-top walking trail would be constructed. Environmental and cultural resources education and interpretation would increase.

Alternative 3

Under Alternative 3, actions to protect, maintain, and restore habitat for priority species are the same as those under Alternative 2. Current public use areas and closures would continue. The waterfowl hunt area/location would remain the same; however, core dusky habitat on the south end of the River `S' Unit (207 acres) would be closed to goose hunting. The existing access point to the River `S' Unit would be retained; a new 2-lane bridge would be constructed to eliminate the at-grade railroad crossing; and the entrance road would be widened, requiring either land acquisition or easement modification. The existing auto tour route would not change. A new 1.5-mile dike-top walking trail would be constructed. Environmental and cultural education and interpretation would increase.

Alternative 4

Under Alternative 4, actions to protect, maintain, and restore habitat for priority species would be the same as those under Alternatives 2 and 3, except that slightly more crops would be grown, and the total wildlife sanctuary area closed to public use would be reduced slightly. This alternative would, however, provide the largest contiguous sanctuary for dusky Canada geese and sandhill cranes on the Refuge's south end. A new access point to the River `S' Unit, including a 2-lane bridge and 1-mile entrance road, would be developed. The south end of the River `S' Unit would be closed to public use during waterfowl and crane migration, to benefit dusky Canada geese and sandhill cranes. The south end of the River `S' Unit (207 acres) would be closed to hunting, and the south end of the auto tour route would be closed during waterfowl season (October 1-March 15), reducing its length from 4.3 miles to 2.6 miles during that time. To offset the loss of these hunting opportunities, 250 acres of Bachelor Island would be opened to waterfowl hunting. The northern portion of this area would be closed early to hunting (January 15) to prevent disturbance to a great blue heron nesting colony. A new 1.5-mile dike-top walking trail would be constructed. Environmental and cultural education and interpretation would increase.

Comments

We solicited comments on the Draft CCP/EA from June 16, 2010, to July 16, 2010 (75 FR 34154; June 16, 2010). We received 16 comment letters, forms, or emails on the Draft CCP/EA. To address public comments, minor changes and clarifications were made to the final CCP where we determined it would be appropriate.

Selected Alternative

After considering the comments we received, we have selected Alternative 2 for implementation. By implementing Alternative 2, we will protect, maintain, and, where feasible, restore habitat for dusky Canada geese, other waterfowl, and imperiled species. We will maintain high-quality green forage in pastures and wet meadows, and increase cropland and wet meadow acreage. Wetlands will be managed to increase productivity and reduce pumping costs. Invasive species and noxious weeds will continue to be a primary management concern. Enhancing and restoring bottomland forest and oak woodland habitats will increase. We will complete habitat assessments to guide stream and tidally influenced wetland restorations. We will conduct feasibility studies for reintroducing native species such as Columbian white-tailed deer and western pond turtle, and inventory and monitoring efforts will increase.

Current public use areas and closures will continue, the waterfowl hunt area will remain unchanged, and changes in wetland management will improve the hunt program over time. A new access point to the River `S' Unit will be developed. The existing auto tour route will be open year round, and shortened slightly, to provide habitat for dusky Canada geese and cranes. A new dike-top walking trail will be constructed. Environmental and cultural education and interpretation programs will increase.

Dated: December 20, 2010.
Richard R. Hannan,
Acting Regional Director, Region 1, Portland, Oregon.

[FR Doc. 2011-3540 Filed 2-15-11; 8:45 am]

BILLING CODE 4310-55-P